DEPARTMENT OF HOMELAND SECURITY

Coast Guard

[Docket No. USCG-2020-0048]

National Offshore Safety Advisory Committee; April 2020 Teleconference

AGENCY: U.S. Coast Guard, Department of Homeland Security.

ACTION: Notice of Federal Advisory Committee teleconference meeting.

SUMMARY: The National Offshore Safety Advisory Committee (Committee) will meet via teleconference to discuss Committee matters relating to the safety of operations and other matters affecting the offshore oil and gas industry.

DATES:

Meeting: The National Offshore Safety Advisory Committee will meet by teleconference on Tuesday, April 28, 2020 from 11:00 a.m. to 1:00 p.m. Eastern Daylight Time. This teleconference may close early if the Committee has completed its business.

Comments and Supporting Documentation: To ensure your comments are received by Committee members before the teleconference, submit your written comments no later than April 17, 2020.

ADDRESSES: To join the teleconference or to request special accommodations, contact the individual listed in the FOR FURTHER INFORMATION CONTACT section no later than 1 p.m. on April 21, 2020, to obtain the needed information. The number of teleconference lines are limited and will be available on a first-come, first served basis.

Instructions: You are free to submit comments at any time, including orally at the teleconference as time permits, but if you want Committee members to review your comment before the teleconference, please submit your comments no later than April 17, 2020. We encourage you to submit comments through the Federal eRulemaking Portal at https://www.regulations.gov. If your material cannot be submitted using https://www.regulations.gov, call or email the individual in the FOR FURTHER INFORMATION CONTACT section of this document for alternate instructions. You must include the docket number [USCG-2020-0048]. Comments received will be posted without alteration at http://www.regulations.gov, including any personal information provided. For more about privacy and submissions in response to this document, see DHS's eRulemaking System of Records notice (85 FR 14226, March 11, 2020).

If you encounter technical difficulties with comments submission, contact the individual listed in the FOR FUTHER INFORMATION CONTACT section below.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Commander Myles Greenway, Designated Federal Officer of the National Offshore Safety Advisory Committee, Commandant (CG-OES-2), U.S. Coast Guard, 2703 Martin Luther King Jr. Avenue SE, Stop 7509, Washington, DC 20593-7509; telephone (202) 372-1410, fax (202) 372-8382 or email: Myles.J.Greenway@uscg.mil, or Mr. Patrick Clark, telephone (202) 372-1358, fax (202) 372-8382 or email patrick.w.clark@uscg.mil.

SUPPLEMENTARY INFORMATION: Notice of this meeting is in compliance with the Federal Advisory Committee Act, 5 U.S.C. Appendix. The National Offshore Safety Advisory Committee provides advice and recommendations to the Department of Homeland Security on matters relating to activities directly involved with or in support of the exploration of offshore mineral and energy resources insofar as they relate to matters within Coast Guard jurisdiction.

Agenda

The National Offshore Safety Advisory Committee will meet via teleconference April 28, 2020 from 11 a.m. to 1 p.m. (Eastern Daylight Time) to review and discuss the progress of the Lifeboats and Rescue Craft Safety on the Outer Continental Shelf (OCS) Subcommittee. The Committee will then use this information and consider public comments in discussing and formulating recommendations to the United States Coast Guard. Public comments or questions will be taken at the discretion of the Designated Federal Officer during the discussion and recommendation portions of the teleconference and during the public comment period, see Agenda item (5). A complete agenda for the April 28, 2020 teleconference is as follows:

(1) Welcoming remarks.

(2) General administration and acceptance of minutes from the September 11, 2019 National Offshore Safety Advisory Committee public meeting.

(3) Current business—Presentation and discussion of progress from the Lifeboats and Rescue Craft Safety on the Outer Continental Shelf (OCS) Subcommittee.

(4) New Business —Discussion on Coast Guard initiatives relating to the Offshore Oil and Gas industries.

(5) Public comment period.

(6) Closing Remarks.

(7) Adjournment of teleconference.

A copy of all pre-meeting documentation will be available at https://homeport.uscg.mil/missions/ports-and-waterways/safety-advisory-committees/nosac/meetings no later than April 17, 2020. Alternatively, you may contact Commander Myles Greenway or Mr. Patrick Clark as noted in the FOR FURTHER INFORMATION CONTACT section above.

Public comments and questions will be taken throughout the teleconference as the Committee discusses the issues and prior to deliberations and voting. There will also be a public comment period at the end of the teleconference. Speakers are requested to limit their comments to 2 minutes. Please note that the public comment period may end before the period allotted, following the last call for comments. Contact the individuals listed in the FOR FURTHER INFORMATION CONTACT section above to register as a speaker.

Dated: March 26, 2020.
Jeffery G. Lantz,
Director of Commercial Regulations and Standards.

[FR Doc. 2020-06924 Filed 4-1-20; 8:45 am]

BILLING CODE 9110-04-P